DEPARTMENT OF COMMERCE

National Institute of Standards and Technology

Proposed Information Collection; Comment Request; National Voluntary Laboratory Accreditation Program (NVLAP) Information Collection System

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 15, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument and instructions should be directed to the attention of Vanda R. White, National Voluntary Laboratory Accreditation Program, National Institute of Standards and Technology, 100 Bureau Drive, Stop 2140, Gaithersburg, MD 20899-2140; phone: (301) 975-3592; email: vanda.white@nist.gov.

SUPPLEMENTARY INFORMATION:

I. Abstract

This is a request to extend the currently approved information collection. This information is collected from all testing or calibration laboratories that apply for NVLAP accreditation. Applicants provide information, such as name, address, phone and fax numbers, contact person(s), and select the test methods or parameters for which the laboratory is seeking accreditation. The application must be signed by the authorized representative of the laboratory, who commits the laboratory to comply with NVLAP's accreditation requirements. The information is necessary to evaluate the competency of laboratories to carry out specific tests or calibrations or types of tests or calibrations. The information collection is mandated by 15 CFR part 285.

II. Method of Collection

An application for accreditation is provided to each new or renewal applicant laboratory and can be submitted to NVLAP either electronically or by mail.

III. Data

OMB Control Number: 0693-0003.

Form Number: None.

Type of Review: Regular submission (extension of a currently approved information collection).

Affected Public: Business or other for-profit organizations; not-for-profit institutions; and Federal, State or local government.

Estimated Number of Respondents: 850.

Estimated Time per Response: 2 hours, 23 minutes.

Estimated Total Annual Burden Hours: 2,026.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 8, 2012.
Gwellnar Banks,
Management Analyst, Office of the Chief Information Officer.

[FR Doc. 2012-19834 Filed 8-13-12; 8:45 am]

BILLING CODE 3510-13-P